DEPARTMENT OF ENERGY

Federal Energy Regulatory Commission

[Docket No. CP06-422-000]

Cameron LNG L.L.C.; Notice of Availability of the Environmental Assessment for the Proposed Cameron Terminal Expansion Project

November 17, 2006.

The staff of the Federal Energy Regulatory Commission (Commission or FERC) has prepared this Environmental Assessment (EA) for the construction and operation of the expansion of the Cameron liquified natural gas (LNG) import terminal (referred to as the Terminal Expansion Project) as proposed by Cameron LNG L.L.C. (Cameron) in the above-referenced docket.

The EA was prepared to satisfy the requirements of the National Environmental Policy Act. The staff concludes that approval of the proposed Terminal Expansion Project, with appropriate mitigating measures as recommended, would not constitute a major federal action significantly affecting the quality of the human environment. The EA evaluates alternatives to the proposal, including the no-action alternative.

The U.S. Army Corps of Engineers (COE) and the U.S. Coast Guard (Coast Guard) are participating as cooperating agencies in the preparation of the EA. The COE would require permits pursuant to Section 404 of the Clean Water Act (33 United States Code (U.S.C.) 1344) and Section 10 of the Rivers and Harbors Act (33 U.S.C. 403). The COE would adopt the EA per Title 40 Code of Federal Regulations (CFR) § 1506.3 if, after an independent review of the document, it concludes that its comments and suggestions have been satisfied. The Coast Guard is responsible for maintining the safety and security of port areas and navigable waterways.

The EA addresses the potential environmental effects of the construction and operation of the proposed Terminal Expansion Project in Cameron Parish, Louisiana, including the construction of:

• An LNG storage tank and associated systems;

• Vaporizers and associated systems; and

• One construction dock.

These facilities would be additional to the previously certificated Cameron LNG Terminal (Docket No. CP02-378-000). Construction of the proposed facilities for the Terminal Expansion Project would be within Cameron LNG's import, storage, and vaporization terminal site (located about 2.25 miles north of Hackberry, Louisiana).

The purpose of the Terminal Expansion Project is to: Provide the facilities necessary for Cameron to deliver up to 1.15 billion standard cubic feet per day of additional natural gas for domestic consumption; accommodate short term demand fluctuations with the addition of an LNG storage tank; provide a technological alternative for ensuring that sendout gas from different LNG sources can be processed to meet uniform pipeline quality gas specifications; and allow the simultaneous berthing and unloading of two ships, increasing the number of ships that could be handled and the volume of LNG that could be offloaded over any given time.

The EA has been placed in the public files of the FERC. A limited number of copies of the EA are available for distribution and public inspection at: Federal Energy Regulatory Commission, Public Reference Room, 888 First Street NE., Room 2A, Washington, DC 20426, (202) 502-8371.

In addition, copies of the EA have been mailed to federal, state, and local government agencies; elected officials; Native American tribes; local libraries and newspapers; intervenors in the FERC's proceeding; and affected landowners and individuals.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426.

• Label one copy of the comments for the attention of the Gas Branch 1;

• Reference Docket No. CP06-422-000; and

• Mail your comments so that they will be received in Washington, DC on or before December 20, 2006.

The Commission strongly encourages electronic filing of any comments, interventions or protests to this proceeding. See 18 CFR 385.2001(a)(1)(iii) and the instructions on the Commission's web site at http://www.ferc.gov under the “e-Filing” link and the link to the User's Guide. Before you can file comments you will need to create a free account, which can be created by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this EA. You must file your request to intervene as specified above.¹ You do not need intervenor status to have your comments considered.

¹ Interventions may also be filed electronically via the Internet in lieu of paper. See the previous discussion on filing comments electronically.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E6-19939 Filed 11-24-06; 8:45 am]

BILLING CODE 6717-01-P